DEPARTMENT OF AGRICULTURE

Agricultural Marketing Service

7 CFR Part 810

[Doc No. AMS-FGIS-19-0033]

Official United States Standards for Grain

AGENCY: Agricultural Marketing Service, USDA.

ACTION: Final action.

SUMMARY: The United States Department of Agriculture's (USDA) Agricultural Marketing Service (AMS) will not pursue changes to the United States (U.S.) Standards for Corn and Soybeans under the United States Grain Standards Act (USGSA).

DATES: September 25, 2019.

FOR FURTHER INFORMATION CONTACT: Patrick McCluskey, USDA AMS; Telephone: (816) 659-8403; Email: Patrick.J.McCluskey@ams.usda.gov.

SUPPLEMENTARY INFORMATION: Section 4 of the USGSA (7 U.S.C. 76(a)) grants the Secretary of Agriculture the authority to establish standards for grain regarding kind, class, quality, and condition. AMS published two requests for information on June 29, 2018, in the Federal Register (83 FR 30591 and 83 FR 30592), wherein AMS invited interested parties to submit comments, ideas, and suggestions on all aspects of the official procedures and the U.S. Standards for Soybeans.

AMS received a total of six comments on the U.S. Standards for Soybeans. AMS received one comment from a stakeholder requesting the comment period for the U.S. Standards for Soybeans be extended. AMS reopened the comment period in a Federal Register publication on October 2, 2018.

AMS received a total of six comments on the U.S. Standards for Soybeans. Two comments were not germane to the rulemaking and accordingly AMS will not take action based on the comments.

AMS received one comment from stakeholders representing grain handlers and exporters requesting the comment period for the U.S. Standards for Soybeans be extended and accordingly, the comment period was reopened on October 2, 2018. During the re-opened comment period, the same commenter group joined with soy processors recommending that AMS withdraw the Request for Information. AMS considers this to mean the commenters request no changes to the soybean standards.

One commenter recommended revising the standard to include a minimum protein content, and to establish a maximum limit of three percent of gluten containing grains in U.S. #1 and U.S. #2 soybeans. Protein content specifications in grain and oilseed commerce are typically handled contractually. Likewise, a maximum limit for gluten containing grains at the contracted grade can be a contract term. Accordingly, AMS will not take action based on this comment.

One commenter made three recommendations: First, that AMS change the table of Grades and Grade Requirements in the soybean Regulations to match the same table in Grain Inspection Handbook II, Chapter 10, Soybeans. AMS observes that the table of Grades and Grade Requirements is correct in both the Regulations and the Handbook, with only differences in format. AMS prefers the format of the table in the Regulations and AMS will format the layout of the table in the Handbook to match the Regulations.

Second, the commenter asked AMS to remove “germ damage” from the definition of Damaged Kernels in the Regulations, stating: “There is not a germ location on a soybean, instead the area where the sprout protruded from the soybean is called the “hilum.” AMS agrees that there is no “germ” in soybeans. However, the hilum is not where a sprout emerges from the seedcoat, rather, the hilum is the point of attachment of the seed to the pod. AMS has no instruction, however, for assessing germ damage in soybeans, thus AMS inspectors never assesses germ damage. Third, the commenter recommend AMS change the term “Interpretive Line Picture” to “Interpretive Line Print.” AMS agrees that a technical correction would be appropriate to clarify the regulations on germ inspection and “Interpretative Line Picture.” AMS plans a subsequent rulemaking to addresses technical corrections throughout the Regulations.

Accordingly, AMS will not pursue amendment of the U.S. Standards for Soybeans and the U.S. Standards for Corn at this time.

Authority: USGSA (7 U.S.C. 71-87k).

Dated: September 16, 2019.
Bruce Summers,
Administrator, Agricultural Marketing Service.

[FR Doc. 2019-20295 Filed 9-24-19; 8:45 am]

BILLING CODE 3410-02-P